SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: May 1-31, 2017.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(e) and 806.22(f) for the time period specified above:

Approvals by Rule Issued Under 18 CFR 806.22(e)

1. Archbald Energy Partners, LLC, ABR-201705001, Archbald Township, Lackawanna County, Pa.; Consumptive Use of Up to 0.3000 mgd; Approval Date: May 10, 2017.

Approvals by Rule Issued Under 18 CFR 806.22(f)

1. Cabot Oil & Gas Corporation, Pad ID: PetersenH P1, ABR-201205002.R1, Dimock Township, Susquehanna County, Pa.; Consumptive Use of Up to 5.0000 mgd; Approval Date: May 8, 2017.

2. Campbell Oil & Gas, Inc., Pad ID: Mid Penn Unit B Well Pad, ABR-201206017.R1, Bigler and Knox Townships, Clearfield County, Pa.; Consumptive Use of Up to 2.0000 mgd; Approval Date: May 8, 2017.

3. SWEPI, LP, Pad ID: Wilson 286, ABR-201203027.R1, Charleston Township, Tioga County, Pa.; Consumptive Use of Up to 4.0000 mgd; Approval Date: May 8, 2017.

4. Cabot Oil & Gas Corporation, Pad ID: BunnellE P2, ABR-201205001.R1, Bridgewater and Dimock Townships, Susquehanna County, Pa.; Consumptive Use of Up to 5.0000 mgd; Approval Date: May 9, 2017.

5. Chief Oil & Gas, LLC, Pad ID: Mehalick Drilling Pad, ABR-201210018.R1, Cherry Township, Sullivan County, Pa.; Consumptive Use of Up to 2.0000 mgd; Approval Date: May 10, 2017.

6. Chesapeake Appalachia, LLC, Pad ID: Slattery, ABR-201211004.R1, Cherry Township, Sullivan County, Pa.; Consumptive Use of Up to 7.5000 mgd; Approval Date: May 15, 2017.

7. Chesapeake Appalachia, LLC, Pad ID: Joeguswa, ABR-201211019.R1, Cherry Township, Sullivan County, Pa.; Consumptive Use of Up to 7.5000 mgd; Approval Date: May 15, 2017.

8. Pennsylvania General Energy Company, LLC, Pad ID: COP Tract 293 Pad E, ABR-201207011.R1, Cummings and McHenry Townships, Lycoming County, Pa.; Consumptive Use of Up to 3.5000 mgd; Approval Date: May 17, 2017.

9. Cabot Oil & Gas Corporation, Pad ID: BusikJ P1, ABR-201206001.R1, Dimock Township, Susquehanna County, Pa.; Consumptive Use of Up to 5.0000 mgd; Approval Date: May 23, 2017.

10. Cabot Oil & Gas Corporation, Pad ID: WaldenbergerP P1, ABR-201206002.R1, Dimock Township, Susquehanna County, Pa.; Consumptive Use of Up to 5.0000 mgd; Approval Date: May 23, 2017.

11. SWN Production Company, LLC, Pad ID: Blaine Hoyd (M Pad), ABR-201207006.R1, Stevens Township, Bradford County, Pa.; Consumptive Use of Up to 4.9990 mgd; Approval Date: May 23, 2017.

12. SWN Production Company, LLC, Pad ID: Beaumont Schaunt (GU U), ABR-201207007.R1, Stevens Township, Bradford County, Pa.; Consumptive Use of Up to 4.9990 mgd; Approval Date: May 23, 2017.

13. SWN Production Company, LLC, Pad ID: Barnhart Well Pad, ABR-201205005.R1, Liberty Township, Susquehanna County, Pa.; Consumptive Use of Up to 4.0000 mgd; Approval Date: May 30, 2017.

Authority: Pub. L. 91-575, 84 Stat. 1509 et seq., 18 CFR parts 806, 807, and 808.

Dated: June 22, 2017.
Stephanie L. Richardson,
Secretary to the Commission.

[FR Doc. 2017-13400 Filed 6-26-17; 8:45 am]

BILLING CODE 7040-01-P